DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held April 5 & 6, 2006, at the Bureau of Land Management's Lewistown Field Office in Lewistown, Montana (920 NE Main, in Lewistown, Montana).

The April 5, meeting will begin at 10 a.m. with a 60-minute public comment period.

This meeting is scheduled to adjourn at 6 p.m.

The April 6, meeting will begin at 8 a.m. with a 60-minute public comment period.

This meeting is scheduled to adjourn at 3 p.m.

SUPPLEMENTARY INFORMATION: This 15-member council advises the Secretary of the Interior on a variety of management issues associated with public land management in Montana. At this meeting the council will discuss/act upon: the minutes of their proceeding meeting; election of officers; a discussion of the public meetings regarding the Upper Missouri River Breaks; National Monument draft management plan; a summary of public comments regarding the monument draft management plan; a discussion of reserved water rights; a discussion of well spacing requirements; field managers' updates; a discussion of the antiquities Act; a discussion of the monument boundary and airstrips; a discussion of non-consensus items in the monument draft management plan; and administrative details.

All meetings are open to the public. The public may present written comments to the RAC. Each formal RAC meeting will also have time allocated for hearing public comments. Depending on the number of persons wishing to comment and time available, the time for individual oral comments may be limited.

FOR FURTHER INFORMATON CONTACT: June Bailey, Lewistown Field Manager, Lewistown Field Office, P.O. Box 1160, Lewistown, Montana 59457, (406) 538-1900.

Dated: March 14, 2006.
June Bailey,
Lewistown Field Manager.

[FR Doc. E6-4049 Filed 3-20-06; 8:45 am]

BILLING CODE 4310-$$-P